DEPARTMENT OF COMMERCE

International Trade Administration

[A-580-807]

Polyethylene Terephthalate Film, Sheet and Strip From Korea: Final Results of Antidumping Duty Administrative Review

AGENCY: Import Administration, International Trade Administration, Department of Commerce.

ACTION: Notice of final results of antidumping duty administrative review and revocation in part.

SUMMARY: On July 10, 2001, the Department of Commerce (the Department) published the preliminary results of the administrative review of the antidumping duty order on polyethylene terephthalate film, sheet, and strip (PET film) from the Republic of Korea (66 FR 35933). The review covers three manufacturers/exporters of the subject merchandise to the United States: H.S. Industries (HSI), Hyosung Corporation (Hyosung) and SKC Limited (SKC). The review covers the period June 1, 1999 through May 31, 2000. We gave interested parties an opportunity to comment on the preliminary results.

The final weighted-average dumping margins for the reviewed firms are listed in the section entitled Final Results of Review. As a result of comments received, we have made changes to the final margin calculations for HSI and SKC.

EFFECTIVE DATE: November 15, 2001.

FOR FURTHER INFORMATION CONTACT: Michael J. Heaney or Robert James, AD/CVD Enforcement Group III, Office 8, Import Administration, International Trade Administration, U.S. Department of Commerce, 14th Street and Constitution Avenue, NW., Washington, DC 20230; telephone (202) 482-4475 or (202) 482-0649, respectively.

Applicable Statute

Unless otherwise indicated, all citations to the Tariff Act of 1930, as amended (the Act), are references to the provisions effective January 1, 1995, the effective date of the amendments made to the Act by the Uruguay Round Agreements Act. In addition, unless otherwise indicated, all citations to the Department's regulations are to the regulations codified at 19 CFR Part 351 (2000).

SUPPLEMENTARY INFORMATION:

Background

On July 10, 2001, the Department published in the Federal Register the preliminary results of administrative review of the antidumping duty order on PET film from Korea. E.I. DuPont de Nemours & Company and Mitsubishi Polyester Film, LLC (collectively Petitioners) submitted their case brief on August 8, 2001. SKC Co., Ltd. and SKC America, Inc. (collectively SKC) filed their case brief on August 9, 2001. Petitioners and SKC submitted rebuttal comments on August 24, 2001. HSI filed rebuttal comments on August 13, 2001 and August 24, 2001. The Department has conducted this administrative review in accordance with section 751 of the Act.

Revocation in Part

In its submission of June 30, 2000, HSI requested, pursuant to 19 CFR 351.222(e)(1), partial revocation of the order with respect to its sales of PET film. HSI certified that (1) it sold the subject merchandise in commercial quantities at not less than NV for a period of at least three consecutive years, (2) in the future it will not sell the subject merchandise at less than NV; and (3) it agreed to immediate reinstatement of the order if the Department determines that, subsequent to revocation, it sold the subject merchandise at less than NV.

Based upon the final results in this review and the final results of the two proceeding reviews (see Polyethylene Terephthalate, Film, Sheet and Strip from the Republic of Korea; Final Results of Antidumping Duty Administrative Review, 65 FR 55003 (September 12, 2000), and Polyethylene Terephthalate, Film, Sheet, and Strip from the Republic of Korea; Final Results of Antidumping Duty New Shipper Review, 64 FR 42670 (August 5, 1999)), HSI has demonstrated three consecutive years of sales at not less than normal value. Furthermore, we have determined that HSI's aggregate sales to the United States have been made in commercial quantities during three consecutive segments of this proceeding. The company also agreed in writing to immediate reinstatement of the antidumping order, as long as any exporter or producer is subject to the order, if the Department concludes that subsequent to the partial revocation, HSI sold the subject merchandise at less than normal value. Based on the above facts, and absent a determination that the continued application of the antidumping order is otherwise necessary to offset dumping, the Department determines that continued application of the order to HSI is not necessary to offset dumping. Therefore, we are revoking the order in part with respect to merchandise produced and exported by HSI. In accordance with 19 CFR § 351.222(f), we will terminate the suspension of liquidation for any such merchandise entered, or withdrawn from warehouse, for consumption after May 31, 2000.

Scope of the Review

Imports covered by this review are shipments of all gauges of raw, pretreated, or primed polyethylene terephthalate film, sheet, and strip, whether extruded or coextruded. The films excluded from this review are metallized films and other finished films that have had at least one of their surfaces modified by the application of a performance-enhancing resinous or inorganic layer of more than 0.00001 inches (0.254 micrometers) thick. Roller transport cleaning film which has at least one of its surfaces modified by the application of 0.5 micrometers of SBR latex has also been ruled as not within the scope of the order.

PET film is currently classifiable under Harmonized Tariff Schedule (HTS) subheading 3920.62.00.00. The HTS subheading is provided for convenience and for U.S. Customs purposes. The written description remains dispositive as to the scope of the product coverage.

The review covers the period June 1, 1999 through May 31, 2000. The Department has conducted this review in accordance with section 751 of the Act.

Analysis of Comments Received

All issues raised in the case and rebuttal briefs are addressed in the “Issues and Decision Memorandum” (Decision Memorandum) from Joseph A. Spetrini, Deputy Assistant Secretary for Import Administration to Faryar Shirzad, Assistant Secretary for Import Administration, dated November 7, 2001 which is adopted by this notice. A list of the issues which parties have raised and to which we have responded, all of which are in the Decision Memorandum, is attached to this notice as an Appendix. Parties can find a complete discussion of all issues raised in this review and the corresponding recommendations in this public memorandum which is on file in the Central Records Unit, room B-099 of the main Commerce building. In addition a complete version of the Decision Memorandum can be accessed directly on the Web at www.ia.ita.doc.gov. The paper copy and electronic version of the Decision Memorandum are identical in content.

Changes Since the Preliminary Results of Review

We have revised SKC's calculation of the general expense ratio making allowances for offsets for “miscellaneous income,” “rental income,” “gain on disposal of fixed asset” and the portion of SKC's “gain on foreign currency transaction” and “gain on foreign currency translation” that do not relate to accounts receivable. Additionally, we have recalculated the CEP profit ratio for SKC by adding to the gross price the U.S. interest revenue, duty drawback and billing adjustments realized by SKC. (Further details regarding these changes can be found in the Decision Memorandum and the SKC November 7, 2001 Final Results Analysis Memorandum, both of which are on file in room B-099 of the main Commerce building.) Finally, we have classified HSI's U.S. sales as CEP transactions. See the Decision Memorandum and HSI November 7, 2001 Final Results Analysis Memorandum (which is also on file in room B-099 of the main Commerce building).

Final Results of Review

As a result of our analysis of the comments received, we determine that the following margins exist for the period June 1, 1999 through May 31, 2000:

Company | Margin (percent)
HSI | 0
Hyosung | 0
SKC | 1.91

The U.S. Customs Service will assess antidumping duties on all appropriate entries. The Department will issue appraisement instructions directly to the Customs Service. We have calculated an importer-specific assessment rate for subject merchandise based on the ratio of the total amount of antidumping duties calculated for the examined sales to the total entered value of sales examined.

Furthermore, the following deposit requirements shall be required for all shipments of PET film from the Republic of Korea entered, or withdrawn from warehouse, for consumption on or after the publication date of these final results of this review, as provided by section 751(a)(1) of the Act: (1) The cash deposit for SKC shall be 1.91 percent; (2) since the rate for Hyosung is zero no cash deposit shall be required for that firm, (3) because we are revoking the order with respect to HSI, no cash deposit will be required for that firm and suspension of liquidation will be lifted for merchandise produced and exported by HSI, (4) for merchandise exported by manufacturers or exporters not covered in this review but covered in the less-than-fair-value (LTFV) investigation or a previous review, the cash deposit will continue to be the most recent rate published in the final determination or final results for which the manufacturer or exporter received a company-specific rate; (5) if the exporter is not a firm covered in this review or the original investigation, but the manufacturer is, the cash deposit rate will be that established for the manufacturer of the merchandise in the final results of the most recent review or the LTFV investigation; and (6) if neither the exporter nor the manufacturer is a firm covered in this or any previous reviews, the cash deposit rate will be 21.50 percent, the “all others” rate established in the LTFV investigation. (See Polyethylene Terephthalate Film, Sheet, and Strip from the Republic of Korea: Notice of Final Court Decision and Amended Final Determination, 62 FR 50557, (September 26, 1997).)

This notice serves as the final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APOs) of their responsibility concerning the disposition of proprietary information disclosed under APO in accordance with 19 CFR 351.305(a). Timely written notification of the return or destruction of APO materials or conversion to judicial protective order is hereby requested. Failure to comply with the regulations and terms of an APO is a sanctionable violation.

This notice of administrative review and revocation in part is in accordance with section 751(a)(1) of the Act.

Dated: November 7, 2001.
Faryar Shirzad,
Assistant Secretary, for Import Administration.

Appendix—Issues in the Decision Memorandum

1. Exclusion of Non-Operating Income in Calculation of SKC's General Expense Ratio

2. Accounting for SKC's B-grade Film Costs

3. Whether HSI's sales are CEP or EP transactions

4. Revocation of Order with respect to HSI

5. Calculation of SKC's CEP and CV profit ratios.

[FR Doc. 01-28643 Filed 11-14-01; 8:45 am]

BILLING CODE 3510-DS-P